DEPARTMENT OF TRANSPORTATION

Federal Aviation Administration

14 CFR Part 39

[Docket No. FAA-2013-0335; Directorate Identifier 2012-NM-187-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-300, A340-200, and A340-300 series airplanes. This proposed AD was prompted by a determination that ballscrew rupture could occur on certain trimmable horizontal stabilizer actuators (THSAs). This proposed AD would require repetitive THSA ballscrew shaft integrity tests, and replacement if necessary. We are proposing this AD to detect and correct ballscrew rupture, which, along with corrosion on the ballscrew lower splines, may lead to loss of transmission of THSA torque loads from the ballscrew to the tie-bar and consequent THSA blowback, which could result in loss of control of the airplane.

DATES: We must receive comments on this proposed AD by June 17, 2013.

ADDRESSES: You may send comments by any of the following methods:

• Federal eRulemaking Portal: Go to http://www.regulations.gov. Follow the instructions for submitting comments.

• Fax: (202) 493-2251.

• Mail: U.S. Department of Transportation, Docket Operations,M-30, West Building Ground Floor, Room W12-140, 1200 New Jersey Avenue SE., Washington, DC 20590.

• Hand Delivery: U.S. Department of Transportation, Docket Operations,M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2013-0335; Directorate Identifier 2012-NM-187-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0210, dated October 11, 2012 (referred to after this as the Mandatory Continuing Airworthiness Information, or “the MCAI”), to correct an unsafe condition for the specified products. The MCAI states:

Since the issuance of EASA AD 2012-0061 which addresses the corrosion identified in service on THSA [part number] P/N 47147-500 and P/N 47147-700 at the level of the ballscrew lower splines, further analyses have been conducted to determine the need for any additional action.

The ballscrew lower splines are not loaded in normal operation, only in case of ballscrew rupture. Analysis results have shown that such rupture could happen during the current inspection interval imposed by the Maintenance Review Board Report (MRBR), task 274000-12.

Corrosion on the lower splines, in case of ballscrew rupture, may lead to loss of transmission of THSA torque loads from the ballscrew to the tie-bar and consequent THSA blowback, which could result in loss of control of the aeroplane.

For the reasons described above, this [EASA] AD requires reduction of the check interval of MRBR task 274000-12.

Required actions include repetitive THSA ballscrew shaft integrity tests. Corrective actions include replacement of the THSA. You may obtain further information by examining the MCAI in the AD docket.

Relevant Service Information

Airbus has issued the following service bulletins. The actions described in this service information are intended to correct the unsafe condition identified in the MCAI.

• Airbus Mandatory Service Bulletin A330-27-3191, dated June 7, 2012.

• Airbus Mandatory Service Bulletin A340-27-4186, dated June 7, 2012.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 30 products of U.S. registry. We also estimate that it would take about 7 work-hours per product to comply with the basic requirements of this proposed AD. The average labor rate is $85 per work-hour. Based on these figures, we estimate the cost of the proposed AD on U.S. operators to be $17,850, or $595 per product.

In addition, we estimate that any necessary follow-on actions would take about 8 work-hours and require parts costing up to $722,556, for a cost of up to $723,236 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0335; Directorate Identifier 2012-NM-187-AD.

(a) Comments Due Date

We must receive comments by June 17, 2013.

(b) Affected ADs

None.

(c) Applicability

This AD applies to Airbus Model A330-301, -302, -303, -321, -322, -323, -341, -342, and -343 airplanes; and Model A340-211, -212, -213, -311, -312, and -313 airplanes; certificated in any category; all manufacturer serial numbers; if fitted with a trimmable horizontal stabilizer actuator (THSA) having part number (P/N) 47147-500 or P/N 47147-700.

(d) Subject

Air Transport Association (ATA) of America Code 27, Flight Controls.

(e) Reason

This AD was prompted by a determination that ballscrew rupture could occur on certain THSAs. We are issuing this AD to detect and correct ballscrew rupture, which, along with corrosion on the ballscrew lower splines, may lead to loss of transmission of THSA torque loads from the ballscrew to the tie-bar and consequent THSA blowback, which could result in loss of control of the airplane.

(f) Compliance

You are responsible for having the actions required by this AD performed within the compliance times specified, unless the actions have already been done.

(g) Repetitive Integrity Tests

At the later of the times specified in paragraph (g)(1) or (g)(2) of this AD, as applicable, do a THSA ballscrew shaft integrity test, in accordance with the Accomplishment Instructions of Airbus Mandatory Service Bulletin A330-27-3191, dated June 7, 2012; or Airbus Mandatory Service Bulletin A340-27-4186, dated June 7, 2012; as applicable. Repeat the integrity test thereafter at intervals not to exceed 12,000 flight hours or 4,400 flight cycles, whichever occurs first.

(1) At the latest of the times specified in paragraph (g)(1)(i), (g)(1)(ii), or (g)(1)(iii) of this AD.

(i) Within 12,000 flight hours since the airplane's first flight; or

(ii) Within 12,000 flight hours since the most recent THSA ballscrew shaft integrity test was done as specified in maintenance review board report (MRBR) Task 274000-12; or

(iii) Within 12,000 flight hours since the most recent THSA ballscrew shaft integrity test was done, as specified in Airbus Mandatory Service Bulletin A330-27-3179 or Airbus Mandatory Service Bulletin A340-27-4175, as applicable. (These service bulletins specify testing in case of type II or type III findings).

(2) Within 1,000 flight hours after the effective date of this AD, but without exceeding the latest of the times specified in paragraphs (g)(2)(i), (g)(2)(ii), or (g)(2)(iii) of this AD.

(i) 16,000 flight hours since the airplane's first flight.

(ii) 16,000 flight hours since the most recent THSA ballscrew shaft integrity test was done, as specified in MRBR task 274000-12.

(iii) 16,000 flight hours since the most recent THSA ballscrew shaft integrity test was done, as specified in Airbus Mandatory Service Bulletin A330-27-3179, or Airbus Mandatory Service Bulletin A340-27-4175, as applicable. (These service bulletins specify testing in case of type II or type III findings).

(h) Replacement

If the result from any test required by paragraph (g) of this AD is not correct, as specified in the Accomplishment Instructions of Airbus Mandatory Service Bulletin A330-27-3191, dated June 7, 2012; or Airbus Mandatory Service Bulletin A340-27-4186, dated June 7, 2012; as applicable: Before further flight, replace the THSA with a serviceable THSA, in accordance with the Accomplishment Instructions of Airbus Mandatory Service Bulletin A330-27-3191, dated June 7, 2012; or Airbus Mandatory Service Bulletin A340-27-4186, dated June 7, 2012; as applicable. Replacement of a THSA, as required by this paragraph, with a THSA having P/N 47147-500 or P/N 47147-700, is not terminating action for the repetitive tests required by paragraph (g) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to Mandatory Continuing Airworthiness Information (MCAI) European Aviation Safety Agency Airworthiness Directive 2012-0210, dated October 11, 2012, and the service bulletins specified in paragraphs (j)(1)(i) and (j)(1)(ii) of this AD, for related information.

(i) Airbus Mandatory Service Bulletin A330-27-3191, dated June 7, 2012.

(ii) Airbus Mandatory Service Bulletin A340-27-4186, dated June 7, 2012.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on April 23, 2013.
Jeffrey E. Duven,
Acting Manager, Transport Airplane Directorate, Aircraft Certification Service.

[FR Doc. 2013-10366 Filed 5-1-13; 8:45 am]

BILLING CODE 4910-13-P